NATIONAL AERONAUTICS AND SPACE ADMINISTRATION

[Notice (15-115)]

Privacy Act of 1974; Privacy Act System of Records

AGENCY: National Aeronautics and Space Administration (NASA).

ACTION: Notice of proposed revisions to existing Privacy Act systems of records.

SUMMARY: Pursuant to the provisions of the Privacy Act of 1974 (5 U.S.C. 552a), the National Aeronautics and Space Administration is issuing public notice of its proposal to modify its previously noticed system of records. This notice publishes updates to systems of records as set forth below under the caption SUPPLEMENTARY INFORMATION.

DATES: Submit comments within 30 calendar days from the date of this publication. The changes will take effect at the end of that period, if no adverse comments are received.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: Pursuant to the provisions of the Privacy Act of 1974, 5 U.S.C. 552a, and as part of its biennial System of Records review, NASA is making minor modifications of its systems of records including: Elimination of redundancies in locations of records; revised categories of records to reflect reduced information collected; updates of system and subsystem managers; clarification of routine uses; and correction of previous typographical errors. Changes for specific NASA systems of records are set forth below:

Aircraft Crewmembers' Qualifications and Performance Records/NASA 10ACMQ: Adding a Purpose section and elaborating the Safeguards section to be more precise.

Astronaut Candidate Selection Records/NASA 10ACSR: Adding a Purpose section and elaborating the Safeguards section to be more complete.

Core Financial Management Records/NASA 10CFMR: Adding a Purpose section and elaborating the Safeguards section to be more complete.

NASA Freedom of Information Act System/NASA 10FOIA: Adding a Purpose statement and revising Source of Records Categories to include representatives of individuals who are making FOIA requests.

NASA Guest Operations System/NASA 10GOS: Updating to reflect change in location of the records, add a statement of the purposes of collecting the records, and clarifying the Storage section.

History Archives Biographical Collection/NASA 10HABC: Adding a Purpose section and a new Routine Use.

Inspector General Investigations Case Files/NASA 10IGIC: Revising Location and System Manager(s) sections to delete a location where records are no longer maintained; updating Retention and Disposal for clarity.

Parking and Transit System (PATS)/NASA 10PATS: Adding a Purpose statement and elaborating the Safeguards section to be more complete.

Security Records System/NASA 10SECR: Adding a new Routine Use, elaborating Safeguards section to be more complete, and updating Retention and Disposal to reflect approved retention schedules.

Submitted by:

Renee P. Wynn,
NASA Chief Information Officer.

NASA 10ACMQ

SYSTEM NAME:

Aircraft Crewmembers' Qualifications and Performance Records.

SECURITY CLASSIFICATION:

None.

SYSTEM LOCATION:

Locations 1 through 11 inclusive as set forth in Appendix A.

CATEGORIES OF INDIVIDUALS COVERED BY THE SYSTEM:

This system maintains information on Crewmembers of NASA aircraft.

CATEGORIES OF RECORDS IN THE SYSTEM:

This System contains: (1) Records of experience, and currency (e.g., flight hours day, night, and instrument), types of approaches and landings, crew position, type of aircraft, flight check ratings and related examination results, and training performed; and (2) flight itineraries and passenger manifests.

AUTHORITY FOR MAINTENANCE OF THE SYSTEM:

51 U.S.C. 20113(a) and 44 U.S.C. 3101.

PURPOSE(S):

Records in this system are used to document flight crew experience and currency as well as itineraries and passenger manifests in case of accidents or requests.

ROUTINE USES OF RECORDS MAINTAINED IN THE SYSTEM, INCLUDING CATEGORES OF USERS AND THE PURPOSES OF SUCH USES:

Any disclosures of information will be compatible with the purpose for which the Agency collected the information. Records from this system may be disclosed: (1) To this system of records may be granted to Federal, State, or local agencies or to foreign governments in cases of accident investigations, including mishap and collateral investigations; (2) to Federal, State, or local agencies, companies, or governments requesting qualifications of crewmembers prior to authorization to participate in their flight programs, or to Federal, State, or local agencies, companies, or governments whose crewmembers may participate in NASA's flight programs; (3) to the public or in press releases either by prior approval of the individual, or in the case of public release of information from mishap or collateral investigation reports, pursuant to NASA regulations at 14 CFR part 1213; and (4) in accordance with NASA standard routine uses as set forth in Appendix B.

POLICIES AND PRACTICES FOR STORING, RETRIEVING, ACCESSING, RETAINING, AND DISPOSING OF RECORDS IN THE SYSTEM:

STORAGE:

Records in this system are maintained as hard-copy documents and on electronic media.

RETRIEVABILITY:

Records are retrieved from the system by aircrew identifier.

SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency that convey sensitive data are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers. Non-electronic records are secured in locked rooms or locked file cabinets.

RETENTION AND DISPOSAL:

Records for other than astronauts are maintained in Agency files and destroyed 5 years after crewmember separates from NASA in accordance with NASA Records Retention Schedules (NRRS), Schedule 8 Item 32. Records of crewmembers who are astronauts are permanent and will be transferred to the National Archives in accordance with NRRS, Schedule 8 Item 34.

SYSTEM MANAGER(S) AND ADDRESS:

Director, Aircraft Management Office, Location 1.

Subsystem Managers: Deputy Chief, Flight Control and Cockpit Integration Branch, Location 2; Chief, Dryden Research Aircraft Operations Division, Location 3; Head, Aeronautical Programs Branch, Location 4; Chief, Aircraft Operations Division, Location 5; Chief, Aircraft Operations Office, Location 6; Chief, Flight Operations and Engineering Branch, Location 7; Chief, Aircraft Operations Office, Location 8; Chief, Aircraft Operations, Location 9; Chief, Contract Management, Location 10; Aircraft Management Officer, Location 11 (Locations are set forth in Appendix A).

NOTIFICATION PROCEDURE:

Information may be obtained from the cognizant system or subsystem manager listed above.

RECORD ACCESS PROCEDURES:

Requests from individuals should be addressed to the same address as stated in the Notification section above.

CONTESTING RECORD PROCEDURES:

The NASA regulations for requesting amendments to records and contesting record contents appear at 14 CFR part 1212.

RECORD SOURCE CATEGORIES:

Individuals, training schools or instructors, medical units or doctors.

EXEMPTIONS:

None.

NASA 10ACSR

SYSTEM NAME:

Astronaut Candidate Selection Records.

SECURITY CLASSIFICATION:

None.

SYSTEM LOCATION:

Location 5, as set forth in Appendix A.

CATEGORIES OF INDIVIDUALS COVERED BY THE SYSTEM:

This system maintains information on persons who have applied to the agency for consideration as candidates for and recipients of training associated with NASA Astronaut and Human Space Flight Programs.

CATEGORIES OF RECORDS IN THE SYSTEM:

Records in this system include identifying information for the individuals in employment applications and resumes and records of specialized training, honors and awards. The system also contains relevant human resource correspondence, records an individual's qualifications for participation in a specialized program, evaluations of candidates, and final NASA determinations of candidates' qualification for the program.

AUTHORITY FOR MAINTENANCE OF THE SYSTEM:

51 U.S.C. 20113(a); 44 U.S.C. 3101; 5 U.S.C. 3301 et seq.

PURPOSE(S):

Records in this system are used by NASA to facilitate processes and procedures associated with the recruitment, evaluation, and selection of United States astronaut candidates, as defined in 14 CFR 1214, Subpart 1214.11 (NASA Astronaut Candidate Recruitment and Selection Program).

ROUTINE USES OF RECORDS MAINTAINED IN THE SYSTEM, INCLUDING CATEGORIES OF USERS AND THE PURPOSE OF SUCH USES:

NASA standard routine uses, as set forth in Appendix B.

POLICIES AND PRACTICES FOR STORING, RETRIEVING, ACCESSING, RETAINING, AND DISPOSING OF RECORDS IN THE SYSTEM:

STORAGE:

Stored on a secure server as electronic records.

RETRIEVABILITY:

Records are retrieved from the system by any one or a combination of name, Discipline Area, or unique identification number.

SAFEGUARDS:

Records are maintained within a secure, electronic database and protected in accordance with the requirements and procedures of FISMA, the NASA regulations at 14 CFR 1212.605, NASA Procedural Requirements (NPR) 2810.1A, NASA ITS-HBK-2810.02-05, and, utilizing database servers with self-encrypting “data-at-rest” technologies, located in secured, monitored, restricted access rooms. Electronic messages sent within and outside of the Agency that convey sensitive data are encrypted and transmitted by staff via pre-approved electronic encryption systems as required by NASA policy. An approved security plan for this system has been established in accordance with OMB Circular A-130, Management of Federal Information Resources. Only key authorized employees with appropriately configured system roles can access the system through approved authentication methods, and only from workstations within the NASA Intranet or via a secure VPN connection that requires two-factor authentication.

RETENTION AND DISPOSAL:

Records are maintained and transferred to the National Archives in accordance with NASA Records Retention Schedules, Schedule 8, Item 35.

SYSTEM MANAGERS AND ADDRESSES:

Astronaut Candidate Program Manager, Location 5, as set forth in Appendix A.

NOTIFICATION PROCEDURE:

Individuals interested in inquiring about their records should notify the System Manager at the address given above.

RECORD ACCESS PROCEDURE:

Individuals who wish to gain access to their records should submit their request in writing to the system manager.

CONTESTING RECORD PROCEDURES:

The NASA regulations pertaining to access to records and for contesting contents and appealing initial determinations by individual concerned are set forth in 14 CFR 1212.4.

RECORD SOURCE CATEGORIES:

Civil servant application information is received by the NASA Astronaut Candidate Selection System from applicants themselves via an electronic interface with the NASA Enterprise Application Competency Center (NEACC) that receives a portion of all records from the USAJobs.gov Web site, operated by the United States Office of Personnel Management (OPM), and into which applicants enter their own application data. Candidate Qualification input is received directly from individuals used as references who have direct knowledge of applicant capabilities. In certain circumstances, updates to this information may be submitted by the individual on whom the record is maintained and/or the NASA Personnel Office(s).

EXEMPTIONS:

None.

NASA 10CFMR

SYSTEM NAME:

Core Financial Management Records.

SECURITY CLASSIFICATION:

This system is categorized in accordance with OMB Circular A-11 as a Special Management Attention Major Information System. A security plan for this system has been established in accordance with OMB Circular A-130, Management of Federal Information Resources.

SYSTEM LOCATION:

George C. Marshall Space Flight Center, National Aeronautics and Space Administration, Marshall Space Flight Center, AL 35812.

CATEGORIES OF INDIVIDUALS COVERED BY THE SYSTEM:

Individuals covered by this system of records include former and current NASA employees and non-NASA individuals requiring any type of payment.

CATEGORIES OF RECORDS IN THE SYSTEM:

Records in this system are comprised of budget formulation, financial management, and employee timekeeping records and may include information about the individuals including Social Security Number (Tax Identification Number), home address, telephone number, email address, and bank account information.

AUTHORITY FOR MAINTENANCE OF THE SYSTEM:

National Aeronautics and Space Act, as amended. 51 U.S.C. 20113(a); Federal Records Act, 44 U.S.C. 3101; Chief Financial Officers Act of 1990, 31 U.S.C. 901; Financial Management Improvement Act of 1996, 31 U.S.C. 3512.

PURPOSE(S):

Records in this system are used to process reimbursement payments to employees for travel, purchase of books or other miscellaneous items; and to process payments and collections in which an individual is reimbursing the Agency.

ROUTINE USES OF RECORDS MAINTAINED IN THE SYSTEM, INCLUDING CATEGORIES OF USERS AND THE PURPOSE OF SUCH USES:

Any disclosures of information will be compatible with the purpose for which the Agency collected the information. The following are routine uses: (1) Furnish data to the Department of Treasury for financial reimbursement of individual expenses, such as travel, books, and other miscellaneous items; (2) Process payments and collections in which an individual is reimbursing the Agency; (3) Ongoing administration and maintenance of the records, which is performed by authorized NASA employees, both civil servants and contractors; and (4) NASA Standard routine uses as set forth in Appendix B.

POLICIES AND PRACTICES FOR STORING, RETRIEVING, ACCESSING, RETAINING, AND DISPOSING OF RECORDS IN THE SYSTEM:

STORAGE:

Records in this system are maintained on electronic media.

RETRIEVABILITY:

Records are retrieved from the system by name or SSN (Tax ID).

SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency that convey sensitive data are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers. Non-electronic records are secured in locked rooms or locked file cabinets.

RETENTION AND DISPOSAL:

Records are stored in the NASA Enterprise Application Competency Center (NEACC) database and managed, retained and dispositioned in accordance with NASA Records Retention Schedules, Schedule 9, Items 11, 13 and 16.

SYSTEM MANAGERS AND ADDRESSES:

IS01/Manager of the NEACC, George C. Marshall Space Flight Center, National Aeronautics and Space Administration, Marshall Space Flight Center, AL 35812.

NOTIFICATION PROCEDURE:

Individuals interested in inquiring about their records should notify the System Manager at the address given above.

RECORD ACCESS PROCEDURE:

Individuals who wish to gain access to their records should submit their request in writing to the System Manager at the address given above.

CONTESTING RECORD PROCEDURES:

The NASA regulations governing access to records, procedures for contesting the contents and for contesting the contents and for appealing initial determinations are set forth in 14 CFR part 1212.

RECORD SOURCE CATEGORIES:

The information is received by the NEACC Financial Systems through an electronic interface from the Federal Personnel Payroll System (FPPS). In certain circumstances, updates to this information may be submitted by NASA employees and recorded directly into the NEACC Financial Systems.

EXEMPTIONS CLAIMED FOR THE SYSTEM:

None.

NASA 10FOIA

SYSTEM NAME:

NASA Freedom of Information Act System.

SECURITY CLASSIFICATION:

None.

SYSTEM LOCATION:

Locations 1-11 and 18, as set forth in Appendix A.

CATEGORIES OF INDIVIDUALS COVERED BY THE SYSTEM:

Individuals or their representatives who have submitted Freedom of Information Act (FOIA)/Privacy Act (PA) requests for records and/or FOIA administrative appeals with NASA; individuals whose requests for records have been referred to the Agency by other agencies; individuals who are the subject of such requests, appeals; and/or the NASA personnel assigned to handle such requests and appeals.

CATEGORIES OF RECORDS IN THE SYSTEM:

This system consists of records created or compiled in response to FOIA, FOIA/PA or PA requests for records or subsequent administrative appeals and may include: The requester's name, address, telephone number, email address; the original requests and administrative appeals; responses to such requests and appeals; all related memoranda, correspondence, notes and other related or supporting documentation, and in some instances copies of requested records and records under administrative appeal.

AUTHORITY FOR MAINTENANCE OF THE SYSTEM:

51 U.S.C. 20113(a); 44 U.S.C. 3101; 5 U.S.C. 552; 14 CFR part 1206.

PURPOSE(S):

Records in this system are maintained for the purpose of processing and tracking access requests and administrative appeals under the FOIA and Privacy Act; for the purpose of maintaining a FOIA or Privacy Act administrative record regarding Agency action on such requests and appeals; and for the Agency in carrying out any other responsibilities under the FOIA and Privacy Act.

ROUTINE USES OF RECORDS MAINTAINED IN THE SYSTEM, INCLUDING CATEGORIES OF USERS AND THE PURPOSES OF SUCH USES:

Any disclosures of information will be compatible with the purpose for which the Agency collected the information. The records and information in these records may be disclosed in accordance with a NASA standard routine uses as set forth in Appendix B.

POLICIES AND PRACTICES FOR STORING, RETRIEVING, ACCESSING, RETAINING, AND DISPOSING OF RECORDS IN THE SYSTEM:

STORAGE:

Records in this system are maintained in paper files; copies may also be maintained in electronic format.

RETRIEVABILITY:

Information is retrieved by FOIA case file numbers.

SAFEGUARDS:

Records are maintained on a secure NASA server and protected in accordance with all Federal standards and those established in NASA regulations at 14 CFR 1212.605. Additionally, the server and data management environments employ infrastructure encryption technologies both in data transmission and at rest on servers. Electronic messages sent within and outside of the Agency that convey sensitive data are encrypted and transmitted by staff via pre-approved electronic encryption systems as required by NASA policy. An approved security plan is in place for the information system containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers. Non-electronic records are secured in locked rooms or files.

RETENTION AND DISPOSAL:

Records are retained and disposed of in accordance with guidelines defined in the NASA Procedural Requirements (NPR) 1441.1D, NASA Records Retention Schedules (NRRS), Schedule 1, Item 49.

SYSTEM MANAGER AND ADDRESS:

System Manager: Principal Agency FOIA Officer, Office of Communications, Location 1, as set forth in Appendix A. Subsystem Managers: Center FOIA Officers, located within locations 2-11 and 18, as set forth in Appendix A.

NOTIFICATION PROCEDURE:

Individuals interested in inquiring about their records should notify the system manager or subsystem manager at the appropriate NASA Center, as set forth in Appendix A.

RECORD ACCESS PROCEDURES:

Individuals seeking to access their FOIA case file should submit their request in writing to the system manager or subsystem manager at the appropriate NASA Center, as set forth in Appendix A. The request envelope should be clearly marked, “PRIVACY ACT REQUEST FOR ACCESS.” The request should include a general description of the records sought, FOIA case file number, and must include your full name, current address, and the date. The request must be signed and either notarized or submitted under penalty of perjury. The system manager may require a notarized signature. Some information may be exempt from access in accordance with FOIA regulations.

CONTESTING RECORD PROCEDURES:

The NASA regulations governing access to records, procedures for contesting the content and for appealing initial determinations are set forth in Title 14, Code of Federal Regulations, Part 1212.

RECORD SOURCE CATEGORIES:

Information is collected directly from individuals, or their representatives, making Freedom of Information Act or Privacy Act requests.

EXEMPTIONS CLAIMED FOR THE SYSTEM:

None.

NASA 10GOS

SYSTEM NAME:

NASA Guest Operations System.

SECURITY CLASSIFICATION:

None.

SYSTEM LOCATION:

Location 5, as set forth in Appendix A.

CATEGORIES OF INDIVIDUALS COVERED BY THE SYSTEM:

This system maintains information on individuals who have been invited to attend NASA events. These individuals can be members of the NASA community such as principal and prominent management and staff officials, program and project managers, scientists, engineers, speakers, other selected employees involved in newsworthy activities, and other participants in Agency programs, as well members of the general public who are invited to attend NASA events.

CATEGORIES OF RECORDS IN THE SYSTEM:

Records in this system may include personal information about the individuals invited or attending events, such as their names, home addresses, nationality and passport information.

AUTHORITY FOR MAINTENANCE OF THE SYSTEM:

51 U.S.C. 20113(a); 44 U.S.C. 3101.

PURPOSE(S):

Records in this system are used by the Agency for the purpose of communicating with guests to NASA events.

ROUTINE USES OF RECORDS MAINTAINED IN THE SYSTEM, INCLUDING CATEGORIES OF USERS AND THE PURPOSE OF SUCH USES:

Any disclosures of information will be compatible with the purpose for which the Agency collected the information. Records from this system may be disclosed in accordance with NASA standard routine uses as set forth in Appendix B.

POLICIES AND PRACTICES FOR STORING, RETRIEVING, ACCESSING, RETAINING, AND DISPOSING OF RECORDS IN THE SYSTEM:

STORAGE:

Records are maintained electronically in a central secure database.

RETRIEVABILITY:

Records are searched and retrieved by name, business, or address.

SAFEGUARDS:

An approved security plan for this system has been established in accordance with OMB Circular A-130, Management of Federal Information Resources. Individuals will have access to the system only in accordance with approved authentication methods. Electronic messages sent within and outside of the Agency that convey sensitive data are encrypted and transmitted by staff via pre-approved electronic encryption systems as required by NASA policy. Only key authorized employees with appropriately configured system roles can access the system and only from workstations within the NASA Intranet.

RETENTION AND DISPOSAL:

Records are retained in a computer database and managed, retained and dispositioned in accordance with the guidelines defined in the NASA Records Retention Schedules (NRRS), Schedule 1, Item 37A.

SYSTEM MANAGER(S) AND ADDRESS:

System Manager: Guest Operations Manager, Office of Communications, Location 1, as set forth in Appendix A.

NOTIFICATION PROCEDURE:

Individuals interested in inquiring about their records should notify the system manager.

RECORD ACCESS PROCEDURE:

Individuals who wish to gain access to their records should submit their request in writing to the system manager.

CONTESTING RECORD PROCEDURES:

The NASA regulations governing access to records, procedures for contesting the contents and for appealing initial determinations are set forth in 14 CFR part 1212.

RECORD SOURCE CATEGORIES:

The information contained in the GOS is obtained directly from the individuals, who provide the information on a voluntary basis.

EXEMPTIONS CLAIMED FOR THE SYSTEM:

None.

NASA 10HABC

SYSTEM NAME:

History Archives Biographical Collection.

SECURITY CLASSIFICATION:

None.

SYSTEM LOCATION:

Location 1 and 11 as set forth in Appendix A.

CATEGORIES OF INDIVIDUALS COVERED BY THE SYSTEM:

This system maintains information on individuals who are of historical significance in aeronautics, astronautics, space science, and other concerns of NASA.

CATEGORIES OF RECORDS IN THE SYSTEM:

Biographical data; speeches and articles by an individual; correspondence, interviews, and various other tapes and transcripts of program activities.

AUTHORITY FOR MAINTENANCE OF THE SYSTEM:

51 U.S.C. 20112(a)(3) and 44 U.S.C. 3101.

PURPOSE(S):

Records in this system are used by History Office staff to answer reference queries from the media and are made available to visiting historians and other researchers to support their research and writing projects.

ROUTINE USES OF RECORDS MAINTAINED IN THE SYSTEM, INCLUDING CATEGORIES OF USERS AND THE PURPOSE OF SUCH USES:

Any disclosures of information will be compatible with the purpose for which the Agency collected the information. Records may be disclosed: (1) To scholars (historians and other disciplines) or any other interested individuals for research in writing dissertations, articles, and books, for government, commercial, and nonprofit publication or developing material for other media use; (2) by History Office staff to members of the media or NASA staff in response to reference requests, and to visiting historians and other researchers to support their research and writing projects; and (3) in accordance with NASA standard routine uses as set forth in Appendix B.

POLICIES AND PRACTICES FOR STORING, RETRIEVING, ACCESSING, RETAINING, AND DISPOSING OF RECORDS IN THE SYSTEM:

STORAGE:

Records in this system are maintained as hard-copy documents and on electronic media.

RETRIEVABILITY:

The records are retrieved from the system by the individual's name.

SAFEGUARDS:

Because these records are archive material and, therefore, a matter of public information, there are no special safeguard procedures required.

RETENTION AND DISPOSAL:

Records are retained indefinitely in Agency reference collections in history offices, but may be destroyed when no longer needed in accordance with NASA Records Retention Schedules, Schedule 1 Item 10.

SYSTEM MANAGERS AND ADDRESSES:

Chief Archivist, Location 1.

Subsystem Manager: Public Affairs Officer, Location 11 as set forth in Appendix A.

NOTIFICATION PROCEDURE:

Information may be obtained from the system manager listed above.

RECORD ACCESS PROCEDURE:

Requests from individuals should be addressed to same address as stated in the Notification section above.

CONTESTING RECORD PROCEDURES:

The NASA regulations for access to records and for contesting contents and appealing initial determinations by the individual concerned appear at 14 CFR part 1212.

RECORD SOURCE CATEGORIES:

Press releases, newspapers, journals, copies of internal Agency records, and the individuals themselves.

EXEMPTIONS CLAIMED FOR THE SYSTEM:

None.

NASA 10IGIC

SYSTEM NAME:

Inspector General Investigations Case Files.

SECURITY CLASSIFICATION:

Some of the material contained in the system has been classified in the interests of national security pursuant to Executive Order 11652.

SYSTEM LOCATION:

Locations 1, 2, 4 through 11, 16 and 17 as set forth in Appendix A.

CATEGORIES OF INDIVIDUALS COVERED BY THE SYSTEM:

This system maintains information on current and former employees of NASA, contractors, and subcontractors, and others whose actions have affected NASA.

CATEGORIES OF RECORDS IN THE SYSTEM:

Case files pertaining to matters including, but not limited to, the following classifications of cases: (1) Fraud against the Government, (2) theft of Government property, (3) bribery, (4) lost or stolen lunar samples, (5) misuse of Government property, (6) conflict of interest, (7) waiver of claim for overpayment of pay, (8) leaks of Source Evaluation Board information, (9) improper personal conduct, (10) irregularities in awarding contracts, (11) computer crimes, (12) research misconduct, and (13) whistleblower protection investigations under various statutes and regulations.

AUTHORITY FOR MAINTENANCE OF THE SYSTEM:

51 U.S.C. 20113; 51 U.S.C. 20114; 44 U.S.C. 3101; Inspector General Act of 1978, as amended, 5 U.S.C. Appendix 3.

PURPOSES:

Information in this system of records is collected in the course of investigating alleged crimes and other violations of law or regulations that affect NASA. The information is used by prosecutors, Agency managers, law enforcement agencies, Congress, NASA contractors, and others to address the crimes and other misconduct discovered during investigations.

ROUTINE USES OF RECORDS MAINTAINED IN THE SYSTEM, INCLUDING CATEGORIES OF USERS AND THE PURPOSES OF SUCH USES:

Any disclosures of information will be compatible with the purpose for which the Agency collected the information. The following are routine uses: (1) Responding to the White House, the Office of Management and Budget, and other organizations in the Executive Office of the President regarding matters inquired of; (2) disclosure to a congressional office from the record of an individual in response to a written inquiry from the congressional office made at the request of that individual; (3) providing data to Federal intelligence elements; (4) providing data to any source from which information is requested in the course of an investigation, and to identify the type of information requested; (5) providing personal identifying data to Federal, State, local, or foreign law enforcement representatives seeking confirmation of identity of persons under investigations; (6) disclosing, as necessary, to a contractor, subcontractor, or grantee firm or institution, to the extent that the disclosure is in NASA's interest and is relevant and necessary in order that the contractor, subcontractor, or grantee is able to take administrative or corrective action; (7) disclosing to any official (including members of the Council of Inspectors General on Integrity and Efficiency (CIGIE) and staff and authorized officials of the Department of Justice and Federal Bureau of Investigation) charged with the responsibility to conduct qualitative assessment reviews of internal safeguards and management procedures employed in Office of Inspector General (OIG) operations; (8) disclosing to members of the CIGIE for the preparation of reports to the President and Congress on the activities of the Inspectors General; (9) disclosing to the public when: The matter under investigation has become public knowledge, or when the Inspector General determines that such disclosure is necessary to preserve confidence in the integrity of the OIG investigative process, or to demonstrate the accountability of NASA officers, or employees, or other individuals covered by this system, unless the Inspector General determines that disclosure of the specific information in the context of a particular case would constitute an unwarranted invasion of personal privacy; (10) disclosing to the news media and public when there exists a legitimate public interest (e.g., to provide information on events in the criminal process, such as indictments), or when necessary for protection from imminent threat to life or property; (11) disclosing to any individual or entity when necessary to elicit information that will assist an OIG investigation or audit; (12) disclosing to complainants and/or victims to the extent necessary to provide such persons with information and explanations concerning the progress and/or results of the investigation or case arising from the matters of which they complained and/or of which they were a victim; (13) disclosing to contractors, grantees, experts, consultants, students, and others performing or working on a contract, service, grant, cooperative agreement, or other assignment for the Federal Government, who have a need to know such information in order to accomplish an agency function; (14) NASA standard routine uses as set forth in Appendix B.

POLICIES AND PRACTICES FOR STORING, RETRIEVING, ACCESSING, RETAINING, AND DISPOSING OF RECORDS IN THE SYSTEM:

STORAGE:

Records in this system are maintained as hard-copy documents and on electronic media.

RETRIEVABILITY:

Each OIG investigation is assigned a case number and all records relating to a particular investigation are filed and retrieved by that case number. Records may also be retrieved from the system by the name of an individual.

SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency that convey sensitive data are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers. Non-electronic records are secured in locked rooms or files.

RETENTION AND DISPOSAL:

Records are maintained in Agency files and destroyed in accordance with NASA Procedural Requirements (NPR) 1441.1, NASA Records Management Program Requirements, and NASA Records Retention Schedules (NRRS) 1441.1, Schedule 9.

SYSTEM MANAGER AND ADDRESS:

Assistant Inspector General for Investigations, Location 1.

Subsystem Managers Special and Resident Agents in Charge, Location 2, 4 through 11 inclusive, 16, and 17 as set forth in Appendix A.

NOTIFICATION PROCEDURE:

None. System is exempt (see below).

RECORD ACCESS PROCEDURES:

None. System is exempt (see below).

CONTESTING RECORD PROCEDURES:

None. System is exempt (see below).

RECORD SOURCE CATEGORIES:

Exempt.

EXEMPTIONS CLAIMED FOR THE SYSTEM:

(1) The Inspector General Investigations Case Files system of records is exempt from any part of the Privacy Act (5 U.S.C. 552a), EXCEPT the following subsections: (b) Relating to conditions of disclosure; (c)(1) and (2) relating to keeping and maintaining a disclosure accounting; (e)(4)(A)-(F) relating to publishing a system notice setting forth name, location, categories of individuals and records, routine uses, and policies regarding storage, retrievability, access controls, retention and disposal of the records; (e)(6), (7), (9), (10), and (11) relating to the dissemination and maintenance of records; (i) relating to criminal penalties. This exemption applies to those records and information contained in the system of records pertaining to the enforcement of criminal laws.

(2) To the extent that there may exist noncriminal investigative files within this system of records, the Inspector General Investigations Case Files system of records is exempt from the following subsections of the Privacy Act (5 U.S.C. 552a): (c)(3) Relating to access to disclosure accounting, (d) relating to access to reports, (e)(1) relating to the type of information maintained in the records; (e)(4)(G), (H), and (I) relating to publishing the system notice information as to agency procedures for access and amendment and information as to the categories of sources of records, and (f) relating to developing agency rules for gaining access and making corrections.

The determination to exempt this system of records has been made by the Administrator of NASA in accordance with 5 U.S.C. 552a(j) and (k) and subpart 5 of the NASA regulations appearing in 14 CFR part 1212, for the reason that a component of the Office of Inspector General, NASA, performs as its principal function activities pertaining to the enforcement of criminal laws, within the meaning of 5 U.S.C. 552a(j)(2).

NASA 10PATS

SYSTEM NAME:

Parking and Transit System (PATS).

SECURITY CLASSIFICATION:

None.

SYSTEM LOCATION:

Locations 1 and 4, as set forth in Appendix A.

CATEGORIES OF INDIVIDUALS COVERED BY THE SYSTEM:

This system maintains information on NASA civil servants and contractors who are holders of parking permits; applicants or members of carpools, vanpools and other ridesharing programs; applicants and recipients of fare subsidies issued by NASA; and applicants for other NASA transit benefit programs.

CATEGORIES OF RECORDS IN THE SYSTEM:

Records in this system may include information about individuals, including name, home address, badge number, monthly commuting cost, email address, years of government service, grade, personal vehicle make and model, and person vehicle license number. These records may be captured as parking, rideshare, or other transit program applications, status or participation reports of individuals' participation in the programs.

AUTHORITY FOR MAINTENANCE OF THE SYSTEM:

51 U.S.C. 20113(a); 44 U.S.C. 3101; 40 U.S.C. 471; and, 40 U.S.C. 486;

PURPOSE(S):

Records in this system are used to facilitate administration of employee and contractor participation in parking, rideshare, and transit programs.

ROUTINE USES OF RECORDS MAINTAINED IN THE SYSTEM, INCLUDING CATEGORIES OF USERS AND THE PURPOSES OF SUCH USES:

Any disclosures of information will be compatible with the purpose for which the Agency collected the information, which is the issuance of NASA Parking Permits and NASA Fare Subsidies.

Records in this system may be disclosed: (1) To other Federal agencies to confirm that an individual is not receiving transit benefits from multiple agencies concurrently; and (2) in accordance with the NASA Standard Routine Uses as listed in Appendix B.

POLICIES AND PRACTICES FOR STORING, RETRIEVING, ACCESSING, RETAINING, AND DISPOSING OF RECORDS IN THE SYSTEM:

STORAGE:

Records are stored in hard copy and electronically in systems on secure NASA servers.

RETRIEVABILITY:

Records are retrieved by name or by zip code of residence.

SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency that convey sensitive data are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers. Non-electronic records are secured in locked rooms or locked file cabinets.

RETENTION AND DISPOSAL:

Records are maintained and disposed of in accordance with NASA Records Retention Schedule 6, Item 11 and General Records Schedule 9, Item 7.

SYSTEM MANAGER(S) AND ADDRESS:

Transportation Officer, Headquarters Facilities and Administrative Services Division, Location 1, as set forth in Appendix A.

Subsystem Manager: Transportation Subsidy Program Lead, Logistics Management Division, Location 4, as set forth in Appendix A.

NOTIFICATION PROCEDURE:

Individuals interested in inquiring about their records should notify the System Manager or Subsystem Manager at the addresses given above.

RECORD ACCESS PROCEDURES:

Individuals who wish to gain access to their records should submit their request in writing to the System Manager or Subsystem Manager at the address given above.

CONTESTING RECORD PROCEDURES:

The NASA regulations governing access to records and procedures for contesting the contents and for appealing initial determinations are set forth in 14 CFR part 1212.

RECORD SOURCE CATEGORIES:

Information is provided by individuals in applications submitted for parking permits, carpool and vanpool membership, ridesharing information, and fare subsidies.

EXEMPTIONS CLAIMED FOR THE SYSTEM:

None.

NASA 10SECR

SYSTEM NAME:

Security Records System.

SECURITY CLASSIFICATION:

None.

SYSTEM LOCATION:

The centralized data system is located at Location 9. Records are also located at Locations 1 through 9 and Locations 11, 12, and 14. The locations are set forth in Appendix A.

CATEGORIES OF INDIVIDUALS COVERED BY THE SYSTEM:

This system maintains information on Civil Servant Employees, applicants, NASA committee members, NASA consultants, NASA experts, NASA Resident Research Associates, guest workers, contractor employees, detailees, visitors, correspondents (written and telephonic), Faculty Fellows, Intergovernmental Personnel Mobility Act (IPA) Employees, Grantees, Cooperative Employees, and Remote Users of NASA Non-Public Information Technology Resources. This system also maintains information on all non-U.S. citizens, to include Lawful Permanent Residents seeking access to NASA facilities, resources, laboratories, contractor sites, Federally Funded Research and Development Centers or NASA sponsored events for unclassified purposes to include employees of NASA or NASA contractors; prospective NASA or NASA contractor employees; employees of other U.S. Government agencies or their contractors; foreign students at U.S. institutions; officials or other persons employed by foreign governments or other foreign institutions who may or may not be involved in cooperation with NASA under international agreements; foreign media representatives; and representatives or agents of foreign national governments seeking access to NASA facilities, to include high-level protocol visits; or international relations.

CATEGORIES OF RECORDS IN THE SYSTEM:

Personnel Security Records, Personal Identity Records including NASA visitor files, Emergency Data Records, Criminal Matters, Traffic Management Records, and Access Management Records. Specific records fields include, but are not limited to: Name, former names, date of birth, place of birth, social security number, home address, phone numbers, citizenship, traffic infraction, security violation, security incident, security violation discipline status and action taken.

AUTHORITY FOR MAINTENANCE OF THE SYSTEM:

18 U.S.C. 793-799, Espionage and Information Control Statutes;

18 U.S.C. 2151-2157, Sabotage Statutes;

18 U.S.C. 202-208, Bribery, Graft, and Conflicts of Interest;

18 U.S.C. 3056, Powers, authorities, and duties of United States Secret Service;

18 U.S.C. 371, Conspiracy Statute;

40 U.S.C. 1441, Responsibilities regarding efficiency, security, and privacy of Federal computer systems;

44 U.S.C. 3101, Records management by agency heads; general duties;

50 U.S.C., Internal Security Act of 1950;

51 U.S.C. 20101 National and Commercial Space Programs;

42 U.S.C. 2011 et seq., Atomic Energy Act of 1954, as amended;

Executive Order 9397, as amended, Numbering System for Federal Accounts Relating to Individual Persons;

Executive Order 13526, as amended, Classified National Security Information;

Executive Order 12968, as amended, Access to Classified Information;

Executive Order 10865, Safeguarding Classified Information Within Industry;

Executive Order 10450, Security Requirements for Government Employees;

Pub. L. 81-733, Summary suspension of employment of civilian officers and employees;

Pub. L. 107-347, Federal Information Security Management Act 2002;

HSPD 12, Policy for a Common Identification Standard for Federal Employees and Contractors;

14 CFR parts 1203 through 1203b, NASA Information Security Program;

14 CFR 1213; NASA Release of Information to News and Information Media;

15 CFR 744; EAR Control Policy: End-user and End-use Based;

22 CFR 62, Exchange Visitor Program;

22 CFR 120-130; Foreign Relations Export Control;

41 CFR Chapter 101 Federal Property Management Regulation.

ROUTINE USES OF RECORDS MAINTAINED IN THE SYSTEM, INCLUDING CATEGORIES OF USERS AND THE PURPOSES OF SUCH USES:

Any disclosures of information will be compatible with the purpose for which the Agency collected the information. The records and information in these records may be disclosed:

1. To the Department of Justice (DOJ) when: (a) The agency or any component thereof; (b) any employee of the agency in his or her official capacity; (c) any employee of the agency in his or her individual capacity where agency or the DOJ has agreed to represent the employee; or (d) the United States Government, is a party to litigation or has an interest in such litigation, and by careful review, the agency determines that the records are both relevant and necessary to the litigation and the use of such records by DOJ is therefore deemed by the agency to be for a purpose compatible with the purpose for which the agency collected the records.

2. To a court or adjudicative body in a proceeding when: (a) The agency or any component thereof; (b) any employee of the agency in his or her official capacity; (c) any employee of the agency in his or her individual capacity where agency or the Department of Justice has agreed to represent the employee; or (d) the United States Government, is a party to litigation or has an interest in such litigation, and by careful review, the agency determines that the records are both relevant and necessary to the litigation and the use of such records is therefore deemed by the agency to be for a purpose that is compatible with the purpose for which the agency collected the records.

3. To an Agency in order to provide a basis for determining preliminary visa eligibility.

4. To a staff member of the Executive Office of the President in response to an inquiry from the White House.

5. To the National Archives and Records Administration or to the General Services Administration for records management inspections conducted under 44 U.S.C. 2904 and 2906.

6. To agency contractors, grantees, or volunteers who have been engaged to assist the agency in the performance of a contract service, grant, cooperative agreement, or other activity related to this system of records and who need to have access to the records in order to perform their activity. Recipients shall be required to comply with the requirements of the Privacy Act of 1974, as amended, 5 U.S.C. 552a.

7. To other Federal agencies and relevant contractor facilities to determine eligibility of individuals to access classified National Security information.

8. To any official investigative or judicial source from which information is requested in the course of an investigation, to the extent necessary to identify the individual, inform the source of the nature and purpose of the investigation, and to identify the type of information requested.

9. To the news media or the general public, factual information the disclosure of which would be in the public interest and which would not constitute an unwarranted invasion of personal privacy, consistent with Freedom of Information Act standards.

10. To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

11. In order to notify an employee's next-of-kin or contractor in the event of a mishap involving that employee or contractor.

12. To notify another Federal agency when, or verify whether, a PIV card is valid.

13. To provide relevant information to an internal or external organization or element thereof conducting audit activities of a NASA contractor or subcontractor.

14. To a NASA contractor, subcontractor, grantee, or other Government organization information developed in an investigation or administrative inquiry concerning a violation of a Federal or state statute or regulation on the part of an officer or employee of the contractor, subcontractor, grantee, or other Government organization.

15. To foreign governments or international organizations if required by treaties, international conventions, or executive agreements.

16. To members of a NASA Advisory Committee or Committees and interagency boards charged with responsibilities pertaining to international visits and assignments and/or national security when authorized by the individual or to the extent the committee(s) is so authorized and such disclosure is required by law.

17. To the following individuals for the purpose of providing information on traffic accidents, personal injuries, or the loss or damage of property: (a) Individuals involved in such incidents; (b) persons injured in such incidents; (c) owners of property damaged, lost or stolen in such incidents; and/or (d) these individuals' duly verified insurance companies, personal representatives, employers, and/or attorneys. The release of information under these circumstances should only occur when it will not: (a) Interfere with ongoing law enforcement proceedings, (b) risk the health or safety of an individual, or (c) reveal the identity of an informant or witness that has received an explicit assurance of confidentiality. Social security numbers should not be released under these circumstances unless the social security number belongs to the individual requester.” The intent of this use is to facilitate information flow to parties who need the information to adjudicate a claim.

18. To the Transportation Security Administration, with consent of the individual on whom the records are maintained, to establish eligibility for the TSA Pre✓ program.

19. In accordance with NASA standard routine uses as set forth in Appendix B.

POLICIES AND PRACTICES FOR STORING, RETRIEVING, ACCESSING, RETAINING, AND DISPOSING OF RECORDS IN THE SYSTEM:

STORAGE:

Records in this system are maintained electronically and in hard-copy documents.

RETRIEVABILITY:

Records are retrieved from the system by individual's name, file number, badge number, decal number, payroll number, Agency-specific unique personal identification code, and/or Social Security Number.

SAFEGUARDS:

Electronic records are maintained on secure NASA servers and protected in accordance with all Federal standards and those established in NASA regulations at 14 CFR 1212.605. Additionally, server and data management environments employ infrastructure encryption technologies both in data transmission and at rest on servers. Approved security plans are in place for information systems containing the records in accordance with the Federal Information Security Management Act of 2002 (FISMA) and OMB Circular A-130, Management of Federal Information Resources (OA-9999-M-MSF-2712, OA-9999-M-MSF-2707, IE-999-M-MSF-1654). Only authorized personnel requiring information in the official discharge of their duties are authorized access to records through approved access or authentication methods. Access to electronic records is achieved only by utilizing NASA agency managed authentication mechanisms. Non-electronic records are secured in access-controlled rooms with electronic security countermeasures and agency managed, PIV enabled, physical authentication mechanisms.

RETENTION AND DISPOSAL:

The Personnel Security Records are maintained in Agency files and destroyed upon notification of the death or within 5 years after separation or transfer of employee or within 5 years after contract relationship expires, whichever is applicable in accordance with NASA Records Retention Schedules (NRRS), Schedule 1 Item 103. The foreign national files are maintained in Agency files and destroyed in accordance with NRRS, Schedule 1 Item 35.

The Personal Identity Records are maintained in Agency files and destroyed upon notification of the death or within 5 years after separation or transfer of employee or within 5 years after contract relationship expires, whichever is applicable in accordance with NRRS, Schedule 1 Item 103. Visitor files are maintained and destroyed in accordance with NRRS, Schedule 1 Item 114. The Emergency Data Records are maintained in Agency files and destroyed when superseded or obsolete in accordance with NRRS 1, Item 100B.

The Criminal Matter Records are maintained in Agency files and destroyed in accordance with NRRS 1, Schedule 97.5, Items A and B.

The Traffic Management Records are maintained in Agency files and destroyed in accordance with NRRS 1, Schedule 97.5, Item C.

SYSTEM MANAGER(S) AND ADDRESS:

System Manager: Deputy Assistant Administrator of the Office of Protective Services, Location 1. Subsystem Managers: The Chief of Security/Protective Services at each subsystem location at locations 1 through 9 and locations 11, 12, and 14. Locations are as set forth in Appendix A.

NOTIFICATION PROCEDURE:

Information may be obtained from the cognizant system or subsystem manager listed above. Requests must contain the following identifying data concerning the requestor: First, middle, and last name; date of birth; Social Security Number; period and place of employment with NASA, if applicable.

RECORD ACCESS PROCEDURES:

Personnel Security Records compiled solely for the purpose of determining suitability, eligibility, or qualifications for Federal civilian employment, Federal contracts, or access to classified information have been exempted by the Administrator under 5 U.S.C. 552a(k)(5) from the access provisions of the Act.

Personal Identity Records: Requests from individuals should be addressed to the same address as stated in the Notification section above.

Emergency Data Records: Requests from individuals should be addressed to the same address as stated in the Notification section above.

Criminal Matter Records compiled for civil or criminal law enforcement purposes have been exempted by the Administrator under 5 U.S.C. 552a(k)(2) from the access provision of the Act.

Traffic Management Records: Requests from individuals should be addressed to the same address as stated in the Notification section above.

CONTESTING RECORD PROCEDURES:

For Personnel Security Records and Criminal Matters Records, see Record Access Procedures, above. For Personal Identity Records, Emergency Data Records, and Traffic Management Records, the NASA rules for access to records and for contesting contents and appealing initial determinations by the individual concerned appear at 14 CFR part 1212.

RECORD SOURCE CATEGORIES:

Information is obtained from a variety of sources including the employee, contractor, or applicant via use of the Standard Form (SF) SF-85, SF-85P, or SF-86 and personal interviews; employers' and former employers' records; FBI criminal history records and other databases; financial institutions and credit reports; medical records and health care providers; educational institutions; interviews of witnesses such as neighbors, friends, coworkers, business associates, teachers, landlords, or family members; tax records; and other public records. Security violation information is obtained from a variety of sources, such as guard reports, security inspections, witnesses, supervisor's reports, audit reports.

EXEMPTIONS CLAIMED FOR THE SYSTEM:

Personnel Security Records compiled solely for the purpose of determining suitability, eligibility, or qualifications for Federal civilian employment, Federal contracts, or access to classified information, but only to the extent that the disclosure of such material would reveal the identity of a confidential source, are exempt from the following sections of the Privacy Act of 1974, 5 U.S.C. 552a(c)(3) relating to access to the disclosure accounting; (d) relating to access to the records; (e)(1) relating to the type of information maintained in the records; (e)(4)(G), (H) and (I) relating to publishing in the annual system notice information as to agency procedures for access and correction and information as to the categories of sources of records; and (f) relating to developing agency rules for gaining access and making corrections. The determination to exempt the Personnel Security Records portion of the Security Records System has been made by the Administrator of NASA in accordance with 5 U.S.C. 552a(k)(5) and Subpart 5 of the NASA regulations appearing in 14 CFR part 1212.

Criminal Matter Records to the extent they constitute investigatory material compiled for law enforcement purposes are exempt from the following sections of the Privacy Act of 1974, 5 U.S.C. 552a(c)(3) relating to access to the disclosure accounting; (d) relating to access to the records; (e)(1) relating to the type of information maintained in the records; (e)(4)(G), (H) and (I) relating to publishing in the annual system notice information as to agency procedures for access and correction and information as to the categories of sources of records; and (f) relating to developing agency rules for gaining access and making corrections. The determination to exempt the Criminal Matter Records portion of the Security Records System has been made by the Administrator of NASA in accordance with 5 U.S.C. 552a(k)(2) and subpart 5 of the NASA regulations appearing in 14 CFR part 1212.

Records subject to the provisions of 5 U.S.C. 552(b)(1) required by Executive Order to be kept secret in the interest of national defense or foreign policy are exempt from the following sections of the Privacy Act of 1974, 5 U.S.C. 552a: (c)(3) Relating to access to the disclosure accounting; (d) relating to the access to the records; (e)(1) relating to the type of information maintained in the records; (e)(4)(G), (H) and (I) relating to publishing in the annual system notice information as to agency procedures for access and correction and information as to the categories of sources of records; and (f) relating to developing agency rules for gaining access and making corrections. The determination to exempt this portion of the Security Records System has been made by the Administrator of NASA in accordance with 5 U.S.C. 552a(k)(1) and subpart 5 of the NASA regulations appearing in 14 CFR part 1212.

[FR Doc. 2015-32289 Filed 12-22-15; 8:45 am]

BILLING CODE 7510-13-P